FEDERAL DEPOSIT INSURANCE CORPORATION

Designated Reserve Ratio for 2022

AGENCY: Federal Deposit Insurance Corporation.

ACTION: Notice of Designated Reserve Ratio for 2022.

SUMMARY: Pursuant to the Federal Deposit Insurance Act (FDI Act), the Board of Directors of the Federal Deposit Insurance Corporation designates that the Designated Reserve Ratio (DRR) for the Deposit Insurance Fund shall remain at 2 percent for 2022. The Board is publishing this notice as required by section 7(b)(3)(A)(i) the FDI Act (12 U.S.C. 1817(b)(3)(A)(i)).

FOR FURTHER INFORMATION CONTACT: Ashley Mihalik, Chief, Banking and Regulatory Policy Section, Division of Insurance and Research, (202) 898-3793, amihalik@fdic.gov; Daniel Hoople, Acting Chief, Fund Analysis and Pricing Section, Division of Insurance and Research, (202) 898-3835, dhoople@fdic.gov; or Nefretete Smith, Counsel, Legal Division, (202) 898-6851, nefsmith@fdic.gov.

SUPPLEMENTARY INFORMATION: Pursuant to the FDI Act, the Board designates that the DRR for the Deposit Insurance Fund shall remain at 2 percent for 2022. The Board is publishing this notice as required by section 7(b)(3)(A)(i) the FDI Act (12 U.S.C. 1817(b)(3)(A)(i)). There is no need to amend 12 CFR 327.4(g), the section of the FDIC's regulations which sets forth the DRR, because the DRR for 2022 is the same as the current DRR.

Dated at Washington, DC, on December 14, 2021.
Federal Deposit Insurance Corporation.
By order of the Board of Directors.
James P. Sheesley,
Assistant Executive Secretary.

[FR Doc. 2021-27382 Filed 12-16-21; 8:45 am]

BILLING CODE 6714-01-P